FEDERAL COMMUNICATIONS COMMISSION

47 CFR Part 73

[MB Docket No. 19-118, RM-11838; DA 19-316]

Television Broadcasting Services; Buffalo, New York

AGENCY: Federal Communications Commission.

ACTION: Proposed rule.

SUMMARY: The Commission has before it a petition for rulemaking filed by Nexstar Broadcasting, Inc., licensee of television station WNLO(TV), channel 32, Buffalo, New York (WNLO), and WUTV Licensee, LLC (WUTV Licensee), licensee of television station WUTV(TV), channel 36, Buffalo, New York. The Joint Petitioners propose the substitution of channel 32 for channel 36 as WNLO's DTV allotment; and the substitution of channel 36 for channel 32 as WUTV's allotment. The Joint Petitioners also request a waiver of the Media Bureau's current freeze on the filing and processing of petition for digital channel substitutions and minor modification applications for changes to existing television service areas that would increase a full power television noise limited contour. The Joint Petitioners seek to exchange the channels of WNLO and WUTV so that after the swap, WNLO would operate on channel 36 and WUTV would operate on channel 32. WUTV would continue to operate form its existing pre-auction location and WNLO would move the Nexstar shared facilities in the site previously vacated by WIVB-TV (Buffalo, New York (CBS) (WIVB). The channel substitution serves the public interest because it would allow for a more efficient allocation of UHF television channels and resolve significant over-the-air reception problems in WIVB's prior service area.

DATES: Comments must be filed on or before May 22, 2019; and reply comments on or before June 3, 2019.

ADDRESSES: Federal Communications Commission, Office of the Secretary, 445 12th Street SW, Washington, DC 20554. In addition to filing comments with the FCC, interested parties should serve counsel for petitioner as follows: Nexstar Broadcasting, Inc., c/o Elizabeth Ryder, 345 E John Carpenter Freeway, Suite 700, Irving, Texas 75062 and WUTV Licensee, LLC, c/o Paul A. Cicelski, Esq., Lerman Senter PLLC, 2001 L Street NW, Suite 400, Washington, DC 20036.

FOR FURTHER INFORMATION CONTACT: Varsha Mangal, Varsha.Mangal@fcc.gov, or Joyce Bernstein, Joyce.Bernstein@fcc.gov, of the Media Bureau, Video Division.

SUPPLEMENTARY INFORMATION: This is a synopsis of the Commission's Notice of Proposed Rule Making, MB Docket No. 19-118, DA 19-316, RM-11838, adopted April 23, 2019, and released April 23, 2019. The full text of this document is available for public inspection and copying during normal business hours in the FCC's Reference Information Center at Portals II, CY-A257, 445 12th Street SW, Washington, DC 20554. This document will also be available via ECFS (http://www.fcc.gov/cgb/ecfs/). (Documents will be available electronically in ASCII, Word 97, and/or Adobe Acrobat.) To request this document in accessible formats (computer diskettes, large print, audio recording, and Braille), send an email to fcc504@fcc.gov or call the Commission's Consumer and Governmental Affairs Bureau at (202) 418-0530 (voice), (202) 418-0432 (TTY). This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts (other than ex parte presentations exempt under 47 CFR 1.1204(a)) are prohibited in Commission proceedings, such as this one, which involve channel allotments. See 47 CFR 1.1208 for rules governing restricted proceedings.

For information regarding proper filing procedures for comments, see 47 CFR 1.415 and 1.419.

List of Subjects in 47 CFR Part 73

Television.

Federal Communications Commission.
Barbara Kreisman,
Chief, Video Division, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 303, 334, 336, and 339.

§ 73.622 Digital television table of allotments.

2. In the table for § 73.622(i), revise the entry for Buffalo to read as follows:

* * * * *

(i) Post-Transition Table of DTV Allotments.

* * * * *

Community | Channel No.
NEW YORK
* * * * *
Buffalo | 14, 32, 33, 36, 38, 39, * 43, 49.
* * * * *

[FR Doc. 2019-08870 Filed 5-6-19; 8:45 am]

BILLING CODE 6712-01-P